DEPARTMENT OF TRANSPORTATION

Federal Aviation Administration

[Docket No. FAA-2022-0040]

Agency Information Collection Activities: Requests for Comments; Clearance of a New Approval of Information Collection: Compliance and Enforcement Actions (CEA) & Voluntary Disclosure Report (VDR)

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on October 03, 2022. The collection involves Regulated Entity (RE) users that create and submit Compliance and Enforcement Action (CE) activity and Voluntary Disclosure Report (VDR) submittals to the FAA. The FAA enters and processes this activity and submittals using the Aviation Safety Knowledge Management Environment Compliance and Enforcement Actions (ASKME CEA) application. The information to be collected will be used to support processing CE and VDR processing for ASKME CEA application users and is necessary because it automates the process by which REs may disclose to the FAA potential occurrence of noncompliance to requirements.

DATES: Written comments should be submitted by June 15, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Ernie Billingsley by email at: Ernie.Billingsley@faa.gov; phone: 405-954-7407.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-XXXX.

Title: Compliance and Enforcement Actions (CEA) & Voluntary Disclosure Report (VDR).

Form Numbers: There is no standard form to use for CEA and VDR submissions.

Type of Review: A new information collection.

Background: The Federal Register Notice with a 60-day comment period soliciting comments on the following collection of information was published on October 03, 2022 (FR Citation 2022-21373). The CEA system supports ASKME users. ASKME users are AIR employees who perform oversight activities of design and manufacturing regulated entities, including production approval holders, design approval holders, and organizational designation authorization holders. REs such as manufacturers, delegated organizations (Organization Designation Authorization) and design holders regulated by the FAA will communicate and exchange information with the FAA. The ASKME CEA is an internal web-based application and provides an more efficient process for CE and VDR activity received from manufacturers, delegated organizations and design holders.

Compliance and Enforcement Actions (CEA)

Title 49 United States Code, Subtitle VII—Aviation Programs encourages the development of civil aeronautics, and promotes safety in air commerce. Sections 44709, 44711 and 44736 allow the Department of Transportation or the Administrator of the Federal Aviation Administration (FAA) to re-inspect and perform oversight activities for civil aircraft, aircraft engine, propeller, appliance, design organization, production certificate holder, and Organization Designation Authorizations. An Organization Designation Authorization or “ODA” is an authorization by the FAA under section 44702(d) for an organization composed of 1 or more ODA units to perform approved functions on behalf of the FAA. See 49 U.S.C. 44736

Section 44709 allows the FAA to re-inspect at any time a civil aircraft, aircraft engine, propeller, appliance, design organization, production certificate holder, air navigation facility, or air agency, or reexamine an airman holding a certificate issued under 49 U.S.C. 44703.

Section 44711 prohibitions a person from violating a term of an air agency, design organization certificate, or production certificate or a regulation prescribed or order issued under section 44701(a) or (b) or any of sections 44702-44716 related to the holder of the certificate;

Under section 44736, when overseeing an ODA holder, the Administrator of the FAA shall conduct regular oversight activities by inspecting the ODA holder's delegated functions and taking action based on validated inspection findings. When the FAA officials perform section 44709 re-inspection or oversight activities and discovers violations, they process them using FAA Orders 8000.373B, Federal Aviation Administration Compliance Program, 2150.3C, FAA Compliance and Enforcement Program and AIR-002-035 Aircraft Certification Service (AIR) Compliance and Enforcement Process.

Voluntary Disclosure Report (VDR)

Title 14 Code of Federal Regulations, Part 193 of the Federal Aviation Administration (FAA) regulations provides that certain information submitted to the FAA on a voluntary basis is not to be disclosed. This part implements statutory provision 49 U.S.C. 40123. The purpose of Part 193 is to encourage the aviation community to voluntarily share information with the FAA so that the agency may work cooperatively with industry to identify modifications to rules, policies, and procedures needed to improve safety, security, and efficiency of the National Airspace System. The information collection associated with Part 193 also supports the Department of Transportation's Strategic Goal of Safety and Security.

To encourage people to voluntarily submit desired information, § 40123 was added to Title 49, United States Code, in the Federal Aviation Reauthorization Act of 1996. Section 40123 allows the Administrator, through FAA regulations, to protect from disclosure voluntarily provided information relating to safety and security issues.

The White House Commission on Aviation Safety and Security issued a recommendation ⁱ on this subject. In Recommendation 1.8, the Commission noted that the most effective way to identify problems is for the people who operate the system to self-disclose the information, but that people will not provide information to the FAA unless it can be protected.

ⁱ https://www.hsdl.org/?abstract&did=1839.

FAA programs that are covered under Part 193 are the Voluntary Safety Reporting Programs (FAA Order 7200.20), Air Traffic and Technical Operations Safety Action Programs (FAA Order 7200.22), Flight Operational Quality Assurance (FAA Order 8000.81), Aviation Safety Action Program (FAA Order 8000.82), and Voluntary Disclosure Reporting Program (FAA Order 8000.89). The AIR ASKME CEA application supports the electronic processing of the three main compliance and enforcement actions as defined by FAA Order 2150.3C, Compliance and Enforcement Program. These actions are Voluntary Disclosure Reports, Compliance Actions and Enforcement Actions.

Respondents: Respondents are aviation design and manufacturing regulated entities, including production approval holders, design approval holders, and organizational designation authorization holders. Responding to the collection of data is voluntary and will be respond to actions in writing and processed by the FAA through the ASKME CEA application. FAA staff of AIR including Aviation Safety Inspectors (ASIs), Aviation Safety Engineers (ASEs), their supervisors and managers, and Organization Designation Authorization (ODA) Organization Management Team (OMT) members receive information submitted by the regulated entities.

Frequency: As needed.

Estimated Average Burden per Response: These reports require an average of 17 hour each to prepare.

Estimated Total Annual Burden: The total estimated burden hours based on the average Compliance and Enforcement/VDR closed cases activity from the CEA & Boeing Aviation Safety Oversight Office (BASSO) databases annually is 6048.

Issued in Washington, DC, on May 9, 2023.
Ernie Billingsley,
Business Program Manager, AIR-952, Enterprise Business Operations Division and Technology Systems Services Branch.

[FR Doc. 2023-10405 Filed 5-15-23; 8:45 am]

BILLING CODE 4910-13-P